DEPARTMENT OF TRANSPORTATION

Federal Aviation Administration

14 CFR Part 71

[Docket No. FAA-2021-0279; Airspace Docket No. 21-AGL-13]

RIN 2120-AA66

Amendment of V-36 and V-316, and Revocation of V-180 Due to Planned Decommissioning of the Elliot Lake and Dryden Non-Directional Beacons (NDBs) Ontario, Canada

AGENCY: Federal Aviation Administration (FAA), DOT.

ACTION: Final rule.

SUMMARY: This action amends VHF Omnidirectional Range (VOR) Federal airways V-36 and V-316; and revokes VOR Federal airway V-180, in the northeastern United States. This action is necessary due to the planned decommissioning of the Elliot Lake, Ontario, Canada, NDB and the Dryden, Ontario, Canada, NDB. Both NDBs are being decommissioned as part of NAV CANADA's navigational aid (NAVAID) Modernization Program.

DATES: Effective date 0901 UTC, January 27, 2022. The Director of the Federal Register approves this incorporation by reference action under 1 CFR part 51, subject to the annual revision of FAA JO Order 7400.11 and publication of conforming amendments.

ADDRESSES: FAA JO Order 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA JO Order 7400.11F is also available for inspection at the National Archives and Records Administration (NARA). For information on the availability of FAA JO Order 7400.11F at NARA, email: fr.inspection@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Federal airway structure in the northeastern United States to maintain the efficient flow of air traffic within the National Airspace System.

History

The FAA published a notice of proposed rulemaking (NPRM) for Docket No. FAA-2021-0279, in the Federal Register (86 FR 24803; May 10, 2021) amending V-36 and V-316; and revoking V-180. The proposed action mirrors the changes planned in Canada's airspace in support of NAV CANADA's Navigational Aid Modernization program. Interested parties were invited to participate in this rulemaking effort by submitting written comments on the proposal. No comments were received.

Subsequent to the NPRM, the FAA published a rule for Docket No. FAA-2020-0496, in the Federal Register (86 FR 62721, November 12, 2021) amending V-36 by removing the airway segment between the Buffalo, NY, VOR/DME and the Elmira, NY, VOR/DME. That airway amendment, also effective January 27, 2022, is included in this rule.

VOR Federal airways are published in paragraph 6010(a) of FAA JO Order 7400.11F, dated August 10, 2021, and effective September 15, 2021, which is incorporated by reference in 14 CFR 71.1. The airways listed in this document will be published subsequently in FAA JO Order 7400.11.

Differences From the NPRM

In the NPRM published for Docket No. FAA-2021-0279, the FAA has identified an editorial error in describing the proposed amendments to V-36. In the proposal section of the NPRM, two separate airway segments were proposed to be removed from V-36. The first V-36 airway segment proposed for removal was identified correctly, but the second airway segment proposed for removal extended beyond what was actually under consideration. The proposed airway segment that was identified incorrectly was listed as “between the Sault Ste. Marie, MI, VOR/DME and the intersection of the La Guardia, NY, VOR/DME 310° and Stillwater, NJ, VOR/DME 043° radials (NEION fix).” The correct proposed airway segment is “between the Sault Ste. Marie, MI, VOR/DME and the intersection of the Wiarton, ON, Canada, VOR/DME 150° radial and Toronto, ON, Canada, VOR/DME 304° radial (BIGBE fix).” Although the second V-36 airway segment proposed for removal was described in error, the resulting V-36 airway information provided in the proposal section, as well as the V-36 description contained in the regulatory text section were both described correctly. Therefore, this rule identifies the second airway segment being removed from V-36 as “between the Sault Ste. Marie, MI, VOR/DME and the intersection of the Wiarton, ON, Canada, VOR/DME 150° radial and Toronto, ON, Canada, VOR/DME 304° radial (BIGBE fix)” and retains the V-36 description in the regulatory text section as was proposed.

Availability and Summary of Documents for Incorporation by Reference

This document amends FAA JO Order 7400.11F, Airspace Designations and Reporting Points, dated August 10, 2021, and effective September 15, 2021. FAA JO Order 7400.11F is publicly available as listed in the ADDRESSES section of this document. FAA JO Order 7400.11F lists Class A, B, C, D, and E airspace areas, air traffic service routes, and reporting points.

The Rule

This action amends 14 CFR part 71 by amending VOR Federal airways V-36 and V-316, and revoking VOR Federal airway V-180. The planned decommissioning of both the Elliot Lake, ON, Canada, NDB and the Dryden, ON, Canada, NDB by NAV CANADA has made this action necessary.

The VOR Federal airway amendments and revocation are described below.

V-36: V-36 extends between the Thunder Bay, ON, Canada, VOR/DME and the intersection of the Wiarton, ON, Canada, VOR/DME 150° radial and Toronto, ON, Canada, VOR/DME 304° radial (BIGBE fix); and between the Elmira, NY, VOR/DME and the intersection of the La Guardia, NY, VOR/DME 310° and Stillwater, NJ, VOR/DME 043° radials (NEION fix). The airspace within Canada is excluded. This action removes the airway segment between the Thunder Bay, ON, Canada, VOR/DME and Wawa, ON, Canada, VOR/DME; and the airway segment between the Sault Ste. Marie, MI, VOR/DME and the intersection of the Wiarton, ON, Canada, VOR/DME 150° radial and Toronto, ON, Canada, VOR/DME 304° radial (BIGBE fix). The resulting airway extends between the Wawa, ON, Canada, VOR/DME and the Sault Ste. Marie, MI, VOR/DME; and between the Elmira, NY, VOR/DME and the intersection of the La Guardia, NY, VOR/DME 310° and Stillwater, NJ, VOR/DME 043° radials (NEION fix). The airspace within Canada remains excluded.

V-316: V-316 currently extends between the Ironwood, MI, VOR/DME and the Sawyer, MI, VOR/DME; and between the Sault Ste. Marie, MI, VOR/DME and the Sudbury, ON, Canada, VOR/DME. The airspace in Canada is excluded. This action removes the airway segment between the Sault Ste. Marie, MI, VOR/DME and the Sudbury, ON, Canada, VOR/DME, and the exclusionary language. The resulting airway extends between the Ironwood, MI, VOR/DME and the Sawyer, MI, VOR/DME.

V-180: V-180 currently extends between the International Falls, MN, VOR/DME and the Dryden, ON, Canada, NDB. The airspace within Canada is excluded. The airway is revoked in its entirety.

All radials in the VOR Federal airway descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-36 and V-316; and revoking VOR Federal airway V-180, to mirror changes being made by NAV CANADA in Canadian airspace in support of their Navigational Aid Modernization program, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA JO Order 7400.11F, Airspace Designations and Reporting Points, dated August 10, 2021, and effective September 15, 2021, is amended as follows:

Paragraph 6010(a), Domestic VOR Federal airways.

* * * * *

V-36 [Amended]

From Wawa, ON, Canada; to Sault Ste. Marie, MI. From Elmira, NY; INT Elmira 110° and LaGuardia, NY, 310° radials; to INT LaGuardia 310° and Stillwater, NJ, 043° radials.

The airspace within Canada is excluded.

* * * * *

V-180 [Removed]

* * * * *

V-316 [Amended]

From Ironwood, MI; to Sawyer, MI.

* * * * *

Issued in Washington, DC, on November 16, 2021.
Michael R. Beckles,
Acting Manager, Rules and Regulations Group.

[FR Doc. 2021-25484 Filed 11-22-21; 8:45 am]

BILLING CODE 4910-13-P